DEPARTMENT OF TRANSPORTATION

Federal Motor Carrier Safety Administration

[Docket No. FMCSA-2014-0010]

Qualification of Drivers; Exemption Applications; Vision

AGENCY: Federal Motor Carrier Safety Administration (FMCSA), DOT.

ACTION: Notice of applications for exemptions, request for comments.

SUMMARY: FMCSA announces receipt of applications from 35 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before September 29, 2014. All comments will be investigated by FMCSA. The exemptions will be issued the day after the comment period closes.

ADDRESSES: You may submit comments bearing the Federal Docket Management System (FDMS) Docket No. FMCSA-2014-0010 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays. If you have questions on viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 35 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Ronald A. Bolyard

Mr. Bolyard, 55, has a macular scar in his left eye due to a traumatic incident during childhood. The visual acuity in his right eye is 20/20, and in his left eye, 20/100. Following an examination in 2014, his optometrist stated, “In my opinion Ronald has sufficient vision to perform the driving tasks required to operate a commercial vehicle.” Mr. Bolyard reported that he has driven tractor-trailer combinations for 23 years, accumulating 2.76 million miles. He holds a Class A CDL from West Virginia. His driving record for the last 3 years shows no crashes and no convictions for moving violations in a CMV.

Jackson C. Braithwaite

Mr. Braithwaite, 55, has complete loss of vision in his left eye due to a traumatic incident in 2004. The visual acuity in his right eye is 20/20, and in his left eye, light perception. Following an examination in 2014, his optometrist stated, “This letter certifies that Jackson Braithwaite, in my medical opinion, has sufficient vision to perform the driving tasks required to operate a commercial vehicle.” Mr. Braithwaite reported that he has driven straight trucks for 12 years, accumulating 210,000 miles, and tractor-trailer combinations for 25 years, accumulating 1.125 million miles. He holds a Class A CDL from Ohio. His driving record for the last 3 years shows no crashes and one conviction for a moving violation in a CMV; he exceeded the speed limit by 4 mph.

Howard T. Bubel

Mr. Bubel, 68, has had a retinal detachment causing macular degeneration in his left eye since 2011. The visual acuity in his right eye is 20/20, and in his left eye, 20/400. Following an examination in 2014, his optometrist stated, “As my last letter stated, in my professional opinion, Howard should be granted an exemption from the visual standard (the state has already done this). He should be allowed to haul his own livestock.” Mr. Bubel reported that he has driven tractor-trailer combinations for 15 years, accumulating 45,000 miles. He holds a Class A CDL from North Dakota. His driving record for the last 3 years shows no crashes and no convictions for moving violations in a CMV.

Raymond E. Burrus

Mr. Burrus, 57, has had refractive amblyopia in his left eye since childhood. The visual acuity in his right eye is 20/20, and in his left eye, 20/400. Following an examination in 2014, his optometrist stated, “It is my opinion that Ray meets all the visual requirements to operate a commercial vehicle.” Mr. Burrus reported that he has driven straight trucks for 30 years, accumulating 300,000 miles, and tractor-trailer combinations for 16 years, accumulating 320,000 miles. He holds a Class A CDL from Colorado. His driving record for the last 3 years shows no crashes and no convictions for moving violations in a CMV.

Dionicio Carrera

Mr. Carrera, 40, has had refractive amblyopia in his left eye since birth. The visual acuity in his right eye is 20/20, and in his left eye, 20/80. Following an examination in 2014, his optometrist stated, “I certify that, in my medical opinion, this patient has sufficient vision to operate a commercial motor vehicle.” Mr. Carrera reported that he has driven straight trucks for 22 years, accumulating 176,000 miles, and tractor-trailer combinations for 15 years, accumulating 1.44 million miles. He holds a Class A CDL from Texas. His driving record for the last 3 years shows no crashes and no convictions for moving violations in a CMV.

Lee A. Clason

Mr. Clason, 47, has had amblyopia and a chorioretinal scar in his left eye since childhood. The visual acuity in his right eye is 20/20, and in his left eye, 20/200. Following an examination in 2014, his optometrist stated, “However, right eye continues to do well and Lee's vision, including peripheral vision, is acceptable for his driver's license, including commercial vehicle.” Mr. Clason reported that he has driven straight trucks for 10 years, accumulating 400,000 miles, and tractor-trailer combinations for 30 years, accumulating 1.8 million miles. He holds a Class A CDL from Nebraska. His driving record for the last 3 years shows one crash, to which he did not contribute and was not cited, and no convictions for moving violations in a CMV.

Jeff W. Claussen

Mr. Claussen, 41, has had refractive amblyopia in his left eye since birth. The visual acuity in his right eye is 20/15, and in his left eye, 20/400. Following an examination in 2014, his optometrist stated, “. . . I believe that Mr. Claussen has sufficient vision to perform the driving tasks required to operate a commercial vehicle.” Mr. Claussen reported that he has driven buses for 15 years, accumulating 168,750 miles. He holds an operator's license from Illinois. His driving record for the last 3 years shows no crashes and no convictions for moving violations in a CMV.

David A. Coburn, Sr.

Mr. Coburn, 57, has a prosthetic left eye in his left eye due to a traumatic incident in 1979. The visual acuity in his right eye is 20/20, and in his left eye, no light perception. Following an examination in 2013, his optometrist stated, “In my medical opinion, Mr. Coburn has sufficient vision to operate a commercial vehicle with the proper use of prescription spectacles.” Mr. Coburn reported that he has driven straight trucks for 10 years, accumulating 150,000 miles, and buses for 8 years, accumulating 80,000 miles. He holds a Class B CDL from Vermont. His driving record for the last 3 years shows no crashes and no convictions for moving violations in a CMV.

Edward Cunningham

Mr. Cunningham, 57, has a corneal scar in his right eye due to a traumatic incident during childhood. The visual acuity in his right eye is no light perception, and in his left eye, 20/25. Following an examination in 2014, his optometrist stated, “The patient has had his CDL for several years. He has been able to maintain his CDL and seems to have no apparent problems driving due to his vision. I think he should be able to maintain his current driving status.” Mr. Cunningham reported that he has driven straight trucks for 36 years, accumulating 630,000 miles, and tractor-trailer combinations for 8 years, accumulating 800,000 miles. He holds a Class CA CDL from Michigan. His driving record for the last 3 years shows no crashes and no convictions for moving violations in a CMV.

Eric P. Demers

Mr. Demers, 37, has had amblyopia in his left eye since childhood. The visual acuity in his right eye is 20/20, and in his left eye, 20/200. Following an examination in 2014, his optometrist stated, “I have no reason to believe Mr. Demers' vision is anything other than sufficient to operate a commercial vehicle.” Mr. Demers reported that he has driven straight trucks for 15 years, accumulating 720,000 miles, and tractor-trailer combinations for 3 years, accumulating 450,000 miles. He holds a Class A CDL from New Hampshire. His driving record for the last 3 years shows no crashes and no convictions for moving violations in a CMV.

Martin H. Duncan

Mr. Duncan, 47, has had amblyopia in his left eye since childhood. The visual acuity in his right eye is 20/20, and in his left eye, 20/60. Following an examination in 2014, his ophthalmologist stated, “Mr. Duncan has a normal eye examination. His amblyopia has been present since childhood, and will not affect his ability to perform the driving tasks required to operate a commercial vehicle.” Mr. Duncan reported that he has driven straight trucks for 3.5 years, accumulating 91,000 miles, and tractor-trailer combinations for 9.5 years, accumulating 247,000 miles. He holds a Class A CDL from Washington. His driving record for the last 3 years shows no crashes and no convictions for moving violations in a CMV.

Ronald D. Holshouser

Mr. Holshouser, 54, has had a retinal detachment in his left eye since 2012. The visual acuity in his right eye is 20/16, and in his left eye, hand motion. Following an examination in 2014, his ophthalmologist stated, “I certify that, in my medical opinion, the applicant's visual deficiency is stable and has sufficient vision to perform the driving tasks required to operate a commercial motor vehicle, and that the applicant's condition will not adversely affect his/her ability to operate a commercial motor vehicle safely.” Mr. Holshouser reported that he has driven straight trucks for 34 years, accumulating 884,000 miles. He holds a Class B CDL from Missouri. His driving record for the last 3 years shows no crashes and no convictions for moving violations in a CMV.

Oscar Juarez

Mr. Juarez, 38, has macular scars of the retina in his left eye due to a traumatic incident in 1998. The visual acuity in his right eye is 20/20, and in his left eye, counting fingers. Following an examination in 2014, his ophthalmologist stated, “In my opinion, given that his visual acuity has been stable for many years, his vision is sufficient to perform the driving tasks that are required to operate a commercial vehicle.” Mr. Juarez reported that he has driven straight trucks for 19 years, accumulating 19,000 miles, and tractor-trailer combinations for 18 years, accumulating 9,000 miles. He holds a Class A CDL from Idaho. His driving record for the last 3 years shows no crashes and no convictions for moving violations in a CMV.

Kelly R. Knopf, Sr.

Mr. Knopf, 51, has had complete loss of vision in his left eye since birth. The visual acuity in his right eye is 20/20, and in his left eye, no light perception. Following an examination in 2014, his optometrist stated, “In my opinion, he has sufficient vision to perform the driving tasks required to operate a commercial vehicle.” Mr. Knopf reported that he has driven straight trucks for 24 years, accumulating 249,600 miles. He holds an operator's license from South Carolina. His driving record for the last 3 years shows no crashes and no convictions for moving violations in a CMV.

Edward J. Kosior

Mr. Kosior, 69, has had strabismic amblyopia in his right eye since childhood. The visual acuity in his right eye is 20/20, and in his left eye, 20/400. Following an examination in 2014, his ophthalmologist stated, “It is in my medical opinion, [sic] that Edward Kosior has sufficient vision to perform the driving task required to operate a commercial vehicle.” Mr. Kosior reported that he has driven buses for 30 years, accumulating 540,000 miles. He holds a Class B CDL from New York. His driving record for the last 3 years shows no crashes and no convictions for moving violations in a CMV.

Todd A. Krough

Mr. Krough, 49, has a prosthetic left eye due to a traumatic incident in 1983. The visual acuity in his right eye is 20/20, and in his left eye, no light perception. Following an examination in 2014, his optometrist stated, “His right eye has no problems at all but it is within your discretion whether monocular vision is sufficient for operating a commercial vehicle. He has been doing so for 30 years with his current condition so seems capable of doing so adequately.” Mr. Krough reported that he has driven straight trucks for 10 years, accumulating 20,000 miles, and tractor-trailer combinations for 20 years, accumulating 100,000 miles. He holds a Class A CDL from Iowa. His driving record for the last 3 years shows no crashes and no convictions for moving violations in a CMV.

Lester E. Lathrop III

Mr. Lathrop, 51, has had myopic astigmatism and amblyopia in his left eye since childhood. The visual acuity in his right eye is 20/20, and in his left eye, 20/70. Following an examination in 2014, his optometrist stated, “In my medical opinion, Les has sufficient vision to perform driving tasks required to operate a commercial.” Mr. Lathrop reported that he has driven straight trucks for 24 years, accumulating 240,000 miles, and tractor-trailer combinations for 14 years, accumulating 140,000 miles. He holds a Class A CDL from Minnesota. His driving record for the last 3 years shows no crashes and no convictions for moving violations in a CMV.

Mathew A. Lind

Mr. Lind, 24, has retinal sclopeteria in his left eye due to a traumatic incident during childhood. The visual acuity in his right eye is 20/20, and in his left eye, 20/200. Following an examination in 2014, his ophthalmologist stated, “I last examined Mathew Lind on May 8, 2014. He has been a patient at our practice since 2003 when he presented after getting shot with a paintball gun in his left eye resulting in retinal sclopeteria . . . I feel that he is fully capable of safely operating a commercial vehicle and performing all driving tasks.” Mr. Lind reported that he has driven straight trucks for 3 years, accumulating 900 miles. He holds an operator's license from Pennsylvania. His driving record for the last 3 years shows no crashes and no convictions for moving violations in a CMV.

Frazier A. Luckerson

Mr. Luckerson, 57, has complete loss of vision in his right eye due to a traumatic incident during childhood. The visual acuity in his right eye is no light perception, and in his left eye, 20/20. Following an examination in 2014, his optometrist stated, “Mr. Luckerson has full use of his left eye and his vision is sufficient to perform the driving tasks required to operate a commercial vehicle.” Mr. Luckerson reported that he has driven straight trucks for 25 years, accumulating 750,000 miles. He holds an operator's license from Georgia. His driving record for the last 3 years shows no crashes and no convictions for moving violations in a CMV.

Carl M. Lude

Mr. Lude, 57, has had macular degeneration in his left eye since 2003. The visual acuity in his right eye is 20/40, and in his left eye, 20/200. Following an examination in 2014, his optometrist stated, “Based on his visual fields and his visual acuity in the right eye, Carl has sufficient vision to perform driving tasks required to operate a commercial vehicle if binocularity is not a critical factor.” Mr. Lude reported that he has driven straight trucks for 7 years, accumulating 1,050 miles. He holds a Class C CDL from Maine. His driving record for the last 3 years shows no crashes and no convictions for moving violations in a CMV.

Ross A. Miceli II

Mr. Miceli, 38, has had a retinal detachment in his left eye since childhood. The visual acuity in his right eye is 20/20, and in his left eye, 20/50. Following an examination in 2014, his optometrist stated, “In my medical opinion, Ross does have sufficient vision to operate a commercial vehicle.” Mr. Miceli reported that he has driven straight trucks for 15 years, accumulating 1.5 million miles, and tractor-trailer combinations for 4 years, accumulating 140,000 miles. He holds a Class A CDL from Pennsylvania. His driving record for the last 3 years shows no crashes and no convictions for moving violations in a CMV.

Timothy L. Miller

Mr. Miller, 36, has had refractive amblyopia in his left eye since birth. The visual acuity in his right eye is 20/20, and in his left eye, 20/60. Following an examination in 2014, his optometrist stated, “In my medical opinion Mr. Miller has sufficient vision to perform the driving tasks required to operate a commercial vehicle.” Mr. Miller reported that he has driven straight trucks for 2.5 years, accumulating 105,000 miles, tractor-trailer combinations for 1.5 years, accumulating 142,500 miles, and buses for 9 years, accumulating 22,500 miles. He holds a Class A CDL from Iowa. His driving record for the last 3 years shows no crashes and no convictions for moving violations in a CMV.

Donald L. Minney

Mr. Minney, 49, has had esotropia with secondary amblyopia in his right eye since birth. The visual acuity in his right eye is 20/60, and in his left eye, 20/20. Following an examination in 2014, his optometrist stated, “Even though he has reduced acuity in the right eye and bilateral color vision deficiency, it is my professional opinion that Mr. Minney is able to safely continue operating with a commercial vehicle license.” Mr. Minney reported that he has driven straight trucks for 30 years, accumulating 750,000 miles. He holds an operator's license from Ohio. His driving record for the last 3 years shows no crashes and no convictions for moving violations in a CMV.

Phillip L. Neff

Mr. Neff, 57, has complete loss of vision in his right eye due to a traumatic incident in 1975. The visual acuity in his right eye is no light perception, and in his left eye, 20/20. Following an examination in 2014, his optometrist stated, “In my medical opinion, Mr. Neff has sufficient vision to perform the driving tasks required to operate a commercial vehicle.” Mr. Neff reported that he has driven straight trucks for 39 years, accumulating 136,500 miles, and tractor-trailer combinations for 39 years, accumulating 136,500 miles. He holds a Class A CDL from Pennsylvania. His driving record for the last 3 years shows no crashes and no convictions for moving violations in a CMV.

Brian S. Nelson

Mr. Nelson, 56, has had amblyopia in his left eye since childhood. The visual acuity in his right eye is 20/20, and in his left eye, 20/200. Following an examination in 2014, his ophthalmologist stated, “He has a history of amblyopia in the left eye and left esotropia. In my opinion, he can safely perform the driving tasks needed to operate a commercial motor vehicle.” Mr. Nelson reported that he has driven straight trucks for 5 years, accumulating 25,000 miles. He holds a Class B CDL from Minnesota. His driving record for the last 3 years shows no crashes and no convictions for moving violations in a CMV.

Peter D. Rosenkranse III

Mr. Rosenkranse, 55, has had exotropia, a cataract, and a retinal scar in his right eye since childhood. The visual acuity in his right eye is 20/400, and in his left eye, 20/20. Following an examination in 2014, his optometrist stated, “I certify in my medical opinion, Mr Rosenkranse has sufficient vision to perform the driving tasks required to operate a commercial vehicle.” Mr. Rosenkranse reported that he has driven tractor-trailer combinations for 35 years, accumulating 147,700 miles. He holds a Class AM CDL from New York. His driving record for the last 3 years shows no crashes and no convictions for moving violations in a CMV.

Antonio Sanchez

Mr. Sanchez, 57, has a prosthetic left eye due to a traumatic incident during childhood. The visual acuity in his right eye is 20/20, and in his left eye, no light perception. Following an examination in 2014, his optometrist stated, “Mr. Sanchez's examination proves that he is visually efficient [sic] to operate a commercial vehicle.” Mr. Sanchez reported that he has driven tractor-trailer combinations for 20 years, accumulating 40,000 miles. He holds a Class A CDL from New Jersey. His driving record for the last 3 years shows no crashes and no convictions for moving violations in a CMV.

Lawrence P. Siegler

Mr. Siegler, 58, has had amblyopia in his left eye since childhood. The visual acuity in his right eye is 20/20, and in his left eye, 20/50. Following an examination in 2014, his optometrist stated, “I certify that Lawrence Siegler in my opinion can safely perform the driving tasks required to operate a commercial vehicle based on the above information as well as what was found during his eye exam.” Mr. Siegler reported that he has driven straight trucks for 20 years, accumulating 30,000 miles, and tractor-trailer combinations for 40 years, accumulating 2.16 million miles. He holds a Class A CDL from Minnesota. His driving record for the last 3 years shows no crashes and one conviction for a moving violation in a CMV; he exceeded the speed limit by 10 mph.

Rick J. Smart

Mr. Smart, 56, has had amblyopia in his right eye since childhood. The visual acuity in his right eye is 20/200, and in his left eye, 20/20. Following an examination in 2014, his optometrist stated, “I don't think his vision deficiency in his right eye interferes with his ability to safely operate a commercial vehicle.” Mr. Smart reported that he has driven straight trucks for 6 years, accumulating 120,000 miles. He holds a Class A CDL from New Hampshire. His driving record for the last 3 years shows no crashes and no convictions for moving violations in a CMV.

Clifford W. Smith

Mr. Smith, 62, has had complete loss of vision in his left eye since 1971. The visual acuity in his right eye is no light perception, and in his left eye, 20/20. Following an examination in 2014, his optometrist stated, “I certify that in my medical opinion, Mr. Smith has sufficient vision to perform the driving tasks required to operate a commercial vehicle.” Mr. Smith reported that he has driven straight trucks for 39 years, accumulating 585,000 miles, and buses for 1 year, accumulating 1,000 miles. He holds an operator's license from Oregon. His driving record for the last 3 years shows no crashes and no convictions for moving violations in a CMV.

Robert L. Strange

Mr. Strange, 45, has had a retinal detachment in his left eye since childhood. The visual acuity in his right eye is 20/20, and in his left eye, counting fingers. Mr. Strange appeared for a DOT visual evaluation on December 3, 2013. His ophthalmologist stated that Mr. Strange's visual impairment does not compromise his ability to operate a motor vehicle safely. Mr. Strange reported that he has driven straight trucks for 8 years, accumulating 192,000 miles, and tractor-trailer combinations for 14 years, accumulating 336,000 miles. He holds a Class A CDL from North Carolina. His driving record for the last 3 years shows no crashes and no convictions for moving violations in a CMV.

David L. Von Hagen

Mr. Von Hagen, 70, has had amblyopia in his left eye since childhood. The visual acuity in his right eye is 20/20, and in his left eye, 20/70. Following an examination in 2014, his optometrist stated, “In my medical opinion, David Von Hagen has sufficient vision to perform the driving tasks required to operate a commercial vehicle.” Mr. Von Hagen reported that he has driven straight trucks for 38 years, accumulating 2.66 million miles, and tractor-trailer combinations for 34 years, accumulating 2.38 million miles. He holds a Class A CDL from Iowa. His driving record for the last 3 years shows no crashes and no convictions for moving violations in a CMV.

Donald Wallace

Mr. Wallace, 57, has a corneal scar, aphakia, and secondary to exotropia in his right eye due to a trauma during childhood. The visual acuity in his right eye is light perception, and in his left eye, 20/20. Following an examination in 2014, his optometrist stated, “At this time, I feel Mr. Wallace is visually capable of maintaining his current CDL license that he has held for the last 12 years.” Mr. Wallace reported that he has driven straight trucks for 10 years, accumulating 80,000 miles, and tractor-trailer combinations for 10 years, accumulating 80,000 miles. He holds a Class A CDL from Illinois. His driving record for the last 3 years shows no crashes and no convictions for moving violations in a CMV.

Loran J. Weiler

Mr. Weiler, 56, has had a retinal detachment in his right eye since childhood. The visual acuity in his right eye is no light perception, and in his left eye, 20/20. Following an examination in 2014, his ophthalmologist stated, “With Loran's overall visual acuity of 20/20, visual fields of greater than 120 degrees and color vision being normal, I do consider him to have sufficient vision to perform driving tasks required to operate a commercial vehicle.” Mr. Weiler reported that he has driven straight trucks for 36 years, accumulating 180,000 miles, and tractor-trailer combinations for 36 years, accumulating 180,000 miles. He holds a Class A CDL from Iowa. His driving record for the last 3 years shows one crash, to which he did not contribute and was not cited, and no convictions for moving violations in a CMV.

Frederick J. Zuech

Mr. Zuech, 60, has a prosthetic right eye due to a traumatic incident in 1979. The visual acuity in his right eye is no light perception, and in his left eye, 20/20. Following an examination in 2014, his optometrist stated, “Pt's OS has full visual field to 120 degrees. PT also has full color vision in the OS based on Ishihara testing. Pt's OS is healthy with no pathology noted. Based on all measurements, I do feel he is safe to continue to perform the driving tasks necessary to operate a commercial vehicle.” Mr. Zuech reported that he has driven straight trucks for 42 years, accumulating 1.05 million miles, and tractor-trailer combinations for 40 years, accumulating 200,000 miles. He holds a Class AM CDL from New York. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0010 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0010 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Dated: August 21, 2014.
Larry W. Minor,
Associate Administrator for Policy.

[FR Doc. 2014-20625 Filed 8-28-14; 8:45 am]

BILLING CODE 4910-EX-P